DEPARTMENT OF HOUSING AND URBAN DEVELOPMENT

[Docket No. FR-5415-N-03]

Announcement of Funding Awards for Fiscal Year 2010; Hispanic-Serving Institutions Assisting Communities Program

AGENCY: Office of the Assistant Secretary for Policy Development and Research, HUD.

ACTION: Announcement of funding awards.

SUMMARY: In accordance with Section 102 (a)(4)(C) of the Department of Housing and Urban Development (HUD) Reform Act of 1989, this document notifies the public of funding awards for Fiscal Year 2010 Hispanic-Serving Institutions Assisting Communities Program (HSIAC). The purpose of this document is to announce the names, addresses and the amount awarded to the winners to be used to help Hispanic-Serving Institutions of Higher Education to expand their role and effectiveness in addressing community development needs in their localities, including neighborhood revitalization, housing and economic development, principally for persons of low-and moderate-income consistent with the purposes of Title I of the Housing and Community Development Act of 1974 as amended.

FOR FURTHER INFORMATION CONTACT: Susan Brunson, Office of University Partnerships, U.S. Department of Housing and Urban Development, Room 8226, 451 Seventh Street, SW., Washington, DC 20410, Telephone (202) 402-3852. To provide service for persons who are hearing-or-speech-impaired, this number may be reached via TTY by Dialing the Federal Information Relay Service on (800) 877-8339 or (202) 708-1455. (Telephone numbers, other than “800” TTY numbers, are not toll free).

SUPPLEMENTARY INFORMATION: The Hispanic-Serving Institutions Assisting Communities Program was approved by Congress under the Consolidated Appropriations Act, 2010 (Pub. L. 111-117, approved December 16, 2009) and is administered by the Office of University Partnerships under the Assistant Secretary for Policy Development and Research. In addition to this program, the Office of University Partnerships administers HUD's ongoing grant programs to institutions of higher education as well as creates initiatives through which colleges and universities can bring their traditional missions of teaching, research, service, and outreach to bear on the pressing local problems in their communities.

The HSIAC program provides funds for a wide range of CDBG-eligible activities including housing rehabilitation and financing, property demolition or acquisition, public facilities, economic development, business entrepreneurship, and fair housing programs.

The Catalog of Federal Domestic Assistance number for this program is 14.514.

On July 16, 2010 a Notice of Funding Availability (NOFA) for this program was posted on Grant.gov (Attachment 1) announcing the availability of approximately $6 million for funding grants under this program. HUD will award two kinds of grants under this program; Previously Unfunded HSIAC Grants (Applicants who have never received a HUD HSIAC program grant) and Previously Funded HSIAC Grants. The maximum amount an applicant can request for award is $600,000 for a three-year (36 months) grant performance period. In order to ensure that institutions that have never received a HUD HSIAC program grant (Previously Unfunded HSIAC applicants) have an opportunity to receive awards in this competition, approximately $1.8 million was made available to fund Previously Unfunded HSIAC applicants. In addition, approximately, $4.7 million was made available to fund Previously Funded HSIAC applicants. The maximum amount an applicant can be awarded is $600,000 for a three-year (36 months) grant performance period

The Department reviewed, evaluated, and scored the applications received based on the criteria in the NOFA. As a result, HUD has funded the applications below, in accordance with section 102(a)(4)(C) of the Department of Housing and Urban Development Reform Act of 1989 (103 Stat. 1987, 42 U.S.C. 3545). More information about the winners can be found at http://www.oup.org.

List of Awardees for Grant Assistance Under the FY 2010 Hispanic-Serving Institutions Assisting Communities Program Funding Competition, by Institution, Address and Grant Amount

Region II

1. New Jersey City University, Ms. Gina Boesch, New Jersey City University, 2309 Kennedy Boulevard, Jersey City, NJ 07305. Grant: $599,916.

2. Passaic County Community College, Mr. Todd Sorber, Passaic County Community College, One College Boulevard, Paterson, NJ 07505. Grant: $599,952.

Region VI

3. South Texas College, Mrs. Luzelma Canales, South Texas College, 3201 W. Pecan Blvd., McAllen, TX 78501. Grant: $599,495.

4. San Antonio College, Mr. Steven Lewis, San Antonio College, 1300 San Pedro Avenue, San Antonio, TX 78212. Grant: $600,000.

5. The University of Texas at San Antonio, Dr. Harriett Romo, The University of Texas at San Antonio, One USTA Circle, San Antonio, TX 78249. Grant: $600,000.

6. Midland College, Mr. Alfredo Chaparro, Midland College, 3600 N. Garfield, Midland, TX 79705. Grant: $600,000.

Region VII

7. Donnelly College, Ms. Amy Neufeld, Donnelly College, 608 N. 18th Street, Kansas City, KS 66102. Grant: $598,608.

Region VIII

8. Otero Junior College, Mr. Gray Ashida, Otero Junior College, 1802 Colorado Avenue, La Junta, CO 81050. Grant: $599,987.

Region IX

9. Fresno City College, Dr. Cynthia Azari, Fresno City College, 1101 E. University Ave, Fresno, CA 93741. Grant: $600,000.

10. Yosemite Community College District, Mr. George Boodrookas, Yosemite Community College District, 2201 Blue Gum Avenue, Modesto, CA 95352. Grant: $600,000.

11. The University Corporation-California State University Northridge, Dr. Joyce Gilbert, The University Corporation-California State University Northridge, 18111 Nordhoff Street, Northridge, CA 91330. Grants: $502,042.

Dated: September 20, 2010.
Raphael Bostic,
Assistant Secretary for Policy Development and Research.

[FR Doc. 2010-24623 Filed 9-30-10; 8:45 am]

BILLING CODE 4210-67-P